SOCIAL SECURITY ADMINISTRATION

[Docket No: SSA-2022-0003]

Agency Information Collection Activities: Comment Request

The Social Security Administration (SSA) publishes a list of information collection packages requiring clearance by the Office of Management and Budget (OMB) in compliance with Public Law 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2022-0003].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2022-0003].

SSA submitted the information collections below to OMB for clearance. Your comments regarding these information collections would be most useful if OMB and SSA receive them within 30 days from the date of this publication. To be sure we consider your comments, we must receive them no later than March 9, 2022. Individuals can obtain copies of these OMB clearance packages by writing to OR.Reports.Clearance@ssa.gov.

1. Application for a Social Security Number Card, the Social Security Number Application Process (SSNAP), internet SSN Replacement Card (iSSNRC) Application, and Online Social Security Number Application Process (oSSNAP)—20 CFR 422.103-422.110—0960-0066. SSA collects information on the SS-5 (used in the United States) and SS-5-FS (used outside the United States) to issue original or replacement Social Security cards. SSA also enters the application data into the SSNAP application when issuing a card via telephone or in person. In addition, hospitals collect the same information on SSA's behalf for newborn children through the Enumeration-at-Birth process. In this process, parents of newborns provide hospital birth registration clerks with information required to register these newborns. Hospitals send this information to State Bureaus of Vital Statistics (BVS), and they send the information to SSA's National Computer Center. SSA then uploads the data to the SSA mainframe along with all other enumeration data, and we assign the newborn a Social Security number (SSN) and issue a Social Security card. Respondents can also use these modalities to request a change in their SSN records. In addition, the iSSNRC internet application collects information similar to the paper SS-5 for no-change replacement SSN cards for adult U.S. citizens. The iSSNRC modality allows certain applicants for SSN replacement cards to complete the internet application and submit the required evidence online rather than completing a paper Form SS-5. Finally, oSSNAP collects information similar to that which we collect on the paper SS-5 for no change situations, with the exception of name change, new or replacement SSN cards for U.S Citizens (adult and minor children), and replacement cards only for non-U.S. citizens. oSSNAP allows these applicants for new or replacement SSN cards to start the application process on-line, receive a list of evidentiary documents, and then submit the application data to SSA for further processing by SSA employees. Applicants need to visit a local SSA office to complete the application process. The respondents for this information collection are applicants for original and replacement Social Security cards, or individuals who wish to change information in their SSN records, who use any of the modalities described above.

Type of Request: Revision of an OMB-approved information collection.

Application scenario | Number of respondents | Frequency of response | Average burden per response (minutes) | Estimated total annual burden (hours) | Average theoretical hourly cost amount (dollars) * | Average wait time in field office (minutes) ** | Total annual opportunity cost (dollars) ***
EAB Modality
Hospital staff who relay the State birth certificate information to the BVS and SSA through the EAB process | 3,587,284 | 1 | 5 | 298,857 | * $24.49 | ** 0 | *** $7,319,008
iSSNRC Modality
Adult U.S. Citizens requesting a replacement card with no changes through the iSSNRC | 3,141,061 | 1 | 5 | 261,755 | * 27.07 | ** 0 | *** 7,085,708
Adult U.S. Citizens requesting a replacement card with a name change through iSSNRC | 44,818 | 1 | 5 | 3,735 | * 27.07 | ** 0 | *** 101,107
oSSNAP Modality
Adult U.S. Citizens providing information to receive a replacement card through the oSSNAP + | 866,575 | 1 | 5 | 72,215 | * 27.07 | ** 24 | *** 11,338,134
Adult U.S. Citizens providing information to receive an original card through the oSSNAP + | 31,521 | 1 | 5 | 2,627 | * 27.07 | * 24 | *** 412,412
Adult Non-U.S. Citizens providing information to receive an original card through the oSSNAP + | 114,429 | 1 | 5 | 9,536 | * 27.07 | ** 24 | *** 1,497,188
Adult Non-U.S. Citizens providing information to receive a replacement card through the oSSNAP + | 63,925 | 1 | 5 | 5,327 | * 27.07 | ** 24 | *** 836,382
SSNAP/SS-5 Modality
Respondents who do not have to provide parents' SSNs | 2,791,499 | 1 | 9 | 418,725 | * 27.07 | ** 24 | *** 41,561,248
Respondents whom we ask to provide parents' SSNs (when applying for original SSN cards for children under age 12) | 102,258 | 1 | 9 | 15,339 | * 27.07 | ** 24 | *** 1,522,471
Applicants age 12 or older who need to answer additional questions so SSA can determine whether we previously assigned an SSN | 335,587 | 1 | 10 | 55,931 | * 27.07 | ** 24 | *** 5,147,794
Applicants asking for a replacement SSN card beyond the allowable limits (i.e., who must provide additional documentation to accompany the application) | 2,428 | 1 | 60 | 2,428 | * 27.07 | ** 24 | *** 92,011
Enumeration Quality Review
Authorization to SSA to obtain personal information cover letter | 500 | 1 | 15 | 125 | * 27.07 | ** 24 | *** 8,798
Authorization to SSA to obtain personal information follow-up cover letter | 500 | 1 | 15 | 125 | * 27.07 | ** 24 | *** 8,798
Grand Total
Totals | 11,081,385 |  |  | 1,146,724 |  |  | *** 76,931,059
+ The number of respondents for this modality is an estimate based on google analytics data for the SS-5 form downloads from SSA.Gov.
* We based this figure on average Hospital Records Clerks (https://www.bls.gov/oes/current/oes292098.htm), and average U.S. worker's hourly wages (https://www.bls.gov/oes/current/oes_nat.htm#00-0000) as reported by the U.S. Bureau of Labor Statistics.
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

2. Response to Notice of Revised Determination—20 CFR 404.913, 404.914, 404.992(b), 416.1413-416.1414, and 416.1492(d)—0960-0347. When SSA determines: (1) Claimants for initial disability benefits do not actually have a disability; or (2) current disability recipients' records show their disability ceased, SSA notifies the disability claimants, or recipients of this decision. In response to this notice, the affected claimants and disability recipients have the following recourse: (1) They may request a disability hearing to contest SSA's decision; and (2) they may submit additional information or evidence for SSA to consider. Disability claimants, recipients, and their representatives use Form SSA-765 to accomplish these two actions. If respondents request the first option, SSA's Disability Hearings Unit uses the form to schedule a hearing; ensure an interpreter is present, if required; and ensure the disability recipients or claimants, and their representatives, receive a notice about the place and time of the hearing. If respondents choose the second option, SSA uses the form and other evidence to reevaluate the claimant's or recipients' case, and determine if the new information or evidence will change SSA's decision. The respondents are disability claimants, current disability recipients, or their representatives.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-765 | 51 | 1 | 30 | 26 | * $19.01 | ** 24 | *** $874
* We based this figure by averaging both the average DI payments based on SSA's current FY 2021 data (https://www.ssa.gov/legislation/2021FactSheet.pdf), and the average U.S. worker's hourly wages, as reported by Bureau of Labor Statistics data (https://www.bls.gov/oes/current/oes_nat.htm).
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

3. Travel Expense Reimbursement—20 CFR 404.999(d) and 416.1499—0960-0434. The Social Security Act (Act) provides for travel expense reimbursement from Federal and State agencies for claimant travel incidental to medical examinations, and to parties, their representatives, and all reasonably necessary witnesses for travel exceeding 75 miles to attend medical examinations, reconsideration interviews and proceedings before an administrative law judge. Reimbursement procedures require the claimant to provide: (1) A list of expenses incurred; and (2) receipts of such expenses. Federal and state personnel review the listings and receipts to verify the reimbursable amount to the requestor. The respondents are claimants for Title II benefits and Title XVI payments, their representatives, and witnesses.

Type of Request: Extension of an OMB-approved information collection.

Modality of completion | Number of respondents | Frequency of response | Average burden per response (minutes) | Estimated total annual burden (hours) | Average theoretical hourly cost amount (dollars) * | Total annual opportunity cost (dollars) **
404.999(d) & 416.1499 | 60,000 | 1 | 10 | 10,000 | * $19.01 | ** $190,100
* We based this figure by averaging both the average DI payments based on SSA's current FY 2021 data (https://www.ssa.gov/legislation/2021FactSheet.pdf), and the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

4. Pain Report Child—20 CFR 404.1512 and 416.912—0960-0540. Before SSA can make a disability determination for a child, we require evidence from Supplemental Security Income (SSI) applicants or claimants to prove their disability. Form SSA-3371-BK provides disability interviewers, and SSI applicants or claimants in self-help situations, with a convenient way to record information about claimants' pain or other symptoms. The State disability determination services adjudicators and judges then use the information from Form SSA-3371-BK to assess the effects of symptoms on function for purposes of determining disability under the Act. The respondents are applicants for, or claimants of SSI payments.

Type of Request: Revision of an OMB-approved information collection

Modality of completion | Number of respondents | Frequency of response | Average burden per response (minutes) | Estimated total annual burden (hours) | Average theoretical hourly cost amount (dollars) * | Average wait time in field office (minutes) ** | Total annual opportunity cost (dollars) ***
SSA-3371 | 1,500 | 1 | 15 | 375 | *** $10.95 | ** 24 | *** $10,676
* We based this figure on the average DI payments based on SSA's current FY 2021 data (https://www.ssa.gov/legislation/2021FactSheet.pdf).
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

5. Internet Request for Replacement of Forms SSA-1099 & SSA-1042S—20 CFR 401.45—0960-0583. Title II beneficiaries use Forms SSA-1099 and SSA-1042S, Social Security Benefit Statement, to determine if their Social Security benefits are taxable, and the amount they need to report to the Internal Revenue Service. In cases where the original forms are unavailable (e.g., lost, stolen, mutilated), an individual may use SSA's automated telephone application to request a replacement SSA-1099 and SSA-1042. SSA uses the information from the automated telephone requests to verify the identity of the requestor and to provide replacement copies of the forms. SSA accepts information in other ways, too; however, the automated telephone options reduce requests to the National 800 Number Network (N8NN) and visits to local Social Security field offices (FO). The respondents are Title II beneficiaries who wish to request a replacement SSA-1099 or SSA-1042S via telephone.

Type of Request: Revision of an OMB-approved information collection.

Modality of completion | Number of respondents | Frequency of response | Average burden per response (minutes) | Estimated total annual burden (hours) | Average theoretical at hourly cost amount (dollars) * | Average wait time for teleservice centers (minutes) ** | Total annual opportunity cost (dollars) ***
Automated Telephone Requests | 219,117 | 1 | 2 | 7,304 | * $27.07 | ** 19 | *** $2,076,025
N8NN | 497,778 | 1 | 3 | 24,889 | * 27.07 | ** 19 | *** 4,940,789
Calls to local field offices | 848,444 | 1 | 3 | 42,422 | * 27.07 | ** 19 | *** 8,421,369
Other (program service centers) | 41,640 | 1 | 3 | 2,082 | * 27.07 | ** 19 | *** 413,305
Totals | 1,606,979 |  |  | 76,697 |  |  | *** 15,851,488
* We based this figure on the average U.S. worker's hourly wages, as reported by Bureau of Labor Statistics data (https://www.bls.gov/oes/current/oes_nat.htm#00-0000).
** We based this figure by averaging the average FY 2021 wait times for teleservice centers, based on SSA's current management information data.
*** This figure does not represent actual costs that SSA is imposing on recipients of Social Security payments to complete this application; rather, these are theoretical opportunity costs for the additional time respondents will spend to complete the application. There is no actual charge to respondents to complete the application.

6. The Ticket to Work and Self-Sufficiency Program—20 CFR 411—0960-0644. SSA's Ticket to Work (TTW) Program transitions Social Security Disability Insurance (SSDI) and SSI recipients toward independence by allowing them to receive Social Security payments while maintaining employment under the auspices of the program. SSA uses service providers, called Employment Networks (ENs), to supervise participant progress through the stages of TTW Program participation, such as job searches and interviews; progress reviews; and changes in ticket status. ENs can be private for-profit and nonprofit organizations, as well as state vocational rehabilitation agencies (VRs). SSA and the ENs utilize the TTW program manager to operate the TTW Program and exchange information about participants. For example, the ENs use the program manager to provide updates on tasks such as selecting a payment system, or requesting payments for helping the beneficiary achieve certain work goals. Since the ENs are not PRA-exempt, the multiple information collections within the TTW program manager require OMB approval. Most of the categories of information are necessary for SSA to: (1) Comply with the Ticket to Work legislation; and (2) provide proper oversight of the program. SSA collects this information through several modalities, including forms, electronic exchanges, and written documentation. The respondents are the ENs or state VRs, SSDI beneficiaries, and blind or disabled SSI recipients working under the auspices of the TTW Program.

Type of Request: Revision of an OMB-approved information collection.

Modality of completion | Number of respondents | Frequency of response | Average burden per response (minutes) | Estimated total annual burden (hours) | Average theoretical hourly cost amount (dollars) * | Total annual opportunity cost (dollars) **
(a) 20 CFR 411.140(d)(2)/Interactive Voice Recognition Telephone | 6,000 | 1 | 3 | 300 | * $15.43 | ** $4,629
(a) 20 CFR 411.140(d)(2)/Ticket Assignment via Portal | 91,484 | 1 | 2 | 3,049 | * 15.43 | ** 47,046
(a) 20 CFR 411.140(d)(3), 411.150(b)(3) and 411.325(a)/State Agency Ticket Assignment Form/SSA-1365 | 948 | 1 | 15 | 237 | * 15.43 | ** 3,657
(a) 20 CFR 411.140(d)(3); 411.325((a); 411.150(b)(3); 20 CFR 411.465./Individualized Work Plan/SSA-1370 | 26,007 | 1 | 60 | 26,007 | * 15.43 | ** 401,288
(a) 20 CFR 411.166; 411.170(b)/Electronic File Submission | 4,104 | 1 | 5 | 342 | * 15.43 | ** 5,277
(b) 20 CFR 411.145; 411.325/Requesting Ticket Unassignments | 2,494 | 1 | 15 | 624 | * 15.43 | ** 9,628
(b) 20 CFR 411.535(a)(1)(iii)/Notification of VR Case Closures via Portal | 136,478 | 1 | 11 | 25,021 | * 15.43 | ** 386,074
(c) 20 CFR 411.200(b)/Requests for Certification of Work and Educational Progress/SSA-1375 | 179 | 1 | 30 | 90 | * 15.43 | ** 1,389
(d) 20 CFR 411.505/Selecting a Payment System | 33 | 1 | 10 | 6 | * 15.43 | ** 93
(e) 20 CFR 411.400—411.420; 20 CFR 411.325(d) and 411.415/Reporting Referral Agreement Activity | 31 | 1 | 15 | 8 | * 15.43 | ** 123
(f) 20 CFR 411.575/Requesting EN Payments/SSA-1391 or SSA-1398 | 1,704 | 1 | 40 | 1,136 | * 15.43 | ** 17,528
(f) 20 CFR 411.560 and 411.581/ Requesting Split Payment/ SSA-1401 | 5 | 1 | 20 | 2 | * 15.43 | ** 31
(g) 20 CFR 411.325(f)/Proof of Relationship | 6,870 | 1 | 20 | 2,290 | * 15.43 | ** 35,335
(g) 20 CFR 411.325(f)/Certification of Services | 2,438 | 1 | 20 | 813 | * 15.43 | ** 12,545
(g) 20 CFR 411.325(f)/Annual Performance Outcome Report | 507 | 1 | 15 | 127 | * 15.43 | ** 1,960
(h) 20 CFR 411.435, 411.615, and 411.625/ Dispute Resolution | 196 | 1 | 120 | 392 | * 15.43 | ** 6,049
(i) 20 CFR 411.320/EN Contract Changes/SSA-1374 | 929 | 1 | 5 | 77 | * 15.43 | ** 1,188
(j) 20 CFR 411.200(b)/WISE Webinar Registration Page | 4,000 | 1 | 3 | 200 | * 15.43 | ** 3,086
(j) 20 CFR 411.200(b)/ WISE Webinar Survey | 1,776 | 1 | 3 | 89 | * 15.43 | ** 1,373
Totals | 286,183 |  | 60,810 |  |  | ** 938,299
* We based these figures by averaging the average hourly wages for Social and Human Service Assistants (https://www.bls.gov/oes/current/oes211093.htm); Rehabilitation Counselors (https://www.bls.gov/oes/current/oes211015.htm); and the average DI payments based on SSA's current FY 2021 data (https://www.ssa.gov/legislation/2021FactSheet.pdf).
** This figure does not represent actual costs that SSA is imposing on recipients of Social Security payments to complete this application; rather, these are theoretical opportunity costs for the additional time respondents will spend to complete the application. There is no actual charge to respondents to complete the application.

7. Representative Payment Policies and Administrative Procedures for Imposing Penalties for False or Misleading Statements or Withholding of Information—0960-0740. This information collection request comprises several regulation sections that provide additional safeguards for Social Security beneficiaries' whose representative payees receive their payment. SSA requires representative payees to notify them of any event or change in circumstances that would affect receipt of benefits or performance of payee duties. SSA uses the information to determine continued eligibility for benefits, the amount of benefits due and if the payee is suitable to continue serving as payee. The respondents are representative payees who receive and use benefits on behalf of Social Security beneficiaries.

Type of Collection: Revision of an OMB-approved information collection.

Regulation sections | Number of respondents | Frequency of response | Average burden per response (minutes) | Estimated total annual burden (hours) | Average theoretical hourly cost amount (dollars) * | Average wait time in field office or for teleservice centers (minutes) ** | Total annual opportunity cost (dollars) ***
404.2035(d) — Paper/Mail | 30,489 | 1 | 5 | 2,541 | * $27.07 |  | *** $68,785
404.2035(d) — Office interview/Intranet | 579,291 | 1 | 5 | 48,274 | * 27.07 | ** 21 | *** 6,795,274
404.2035(f) — Paper/Mail | 304 | 1 | 5 | 25 | * 27.07 |  | *** 677
404.2035(f) — Office interview/Intranet | 5,792 | 1 | 5 | 483 | * 27.07 | ** 21 | *** 67,946
416.635(d) — Paper/Mail | 16,630 | 1 | 5 | 1,386 | * 27.07 |  | *** 37,519
416.635(d) — Office interview/Intranet | 305,316 | 1 | 5 | 25,443 | * 27.07 | ** 21 | *** 3,581,469
416.635(f) — Paper/Mail | 166 | 1 | 5 | 14 | * 27.07 |  | *** 379
416.635(f) — Office interview/Intranet | 3,159 | 1 | 5 | 263 | * 27.07 | ** 21 | *** 37,059
Totals | 941,147 |  |  | 78,429 |  |  | *** 10,589,108
* We based this figure on the average U.S. worker's hourly wages, as reported by Bureau of Labor Statistics data (https://www.bls.gov/oes/current/oes_nat.htm#00-0000).
** We based this figure by averaging the average FY 2021 wait times for both field offices and teleservice centers, based on SSA's current management information data.
*** This figure does not represent actual costs that SSA is imposing on recipients of Social Security payments to complete this application; rather, these are theoretical opportunity costs for the additional time respondents will spend to complete the application. There is no actual charge to respondents to complete the application.

8. Protecting the Public and Our Personnel To Ensure Operational Effectiveness (RIN 0960-AH35), Regulation 3729I—20 CFR 422.905 and 422.906—0960-0796. SSA published regulations for the process we follow when we restrict individuals from receiving in-person services in our field offices and provide them, instead, with alternative services. We published these rules to create a safer environment for our personnel and members of the public who use our facilities, while ensuring we continue to serve the American people with as little disruption to our operations as possible. Under our regulations at 20 CFR 422.905, an individual for whom we restrict access to our facilities has the opportunity to appeal our decision within 60 days of the date of the restrictive access and alternative service notice. To appeal, restricted individuals must submit a written request stating why they believe SSA should rescind the restriction and allow them to conduct business with us on a face-to-face basis in one of our offices. There is no printed form for this request; rather, restricted individuals create their own written statement of appeal, and submit it to a sole decision-maker in the regional office of the region where the restriction originated. The individuals may also provide additional documentation to support their appeal. Under 20 CFR 422.906, if the individual does not appeal the decision within the 60 days, if we restricted the individual prior to the effective date of this regulation, or if the appeal results in a denial, the individual has another opportunity to request review of the restriction after a three-year period. To submit this request for review, restricted individuals may re-submit a written appeal of the decision. The same criteria apply as for the original appeal: (1) It must be in writing; (2) it must go to a sole decision-maker in the regional office of the region where the restriction originated for review; and (3) it may accompany supporting documentation. We make this periodic review available to all restricted individuals once every three years. Respondents for this collection are individuals appealing their restrictions from in-person services at SSA field offices.

Type of Request: Extension of an OMB-approved information collection.

Regulation sections | Number of respondents | Frequency of response | Average burden per response (minutes) | Estimated total annual burden (hours) | Average theoretical hourly cost amount (dollars) * | Total annual opportunity cost (dollars) **
20 CFR 422.905 | 75 | 1 | 15 | 19 | * $19.01 | ** $361
20 CFR 422.906 | 75 | 1 | 20 | 25 | * 19.01 | ** 475
Totals | 150 |  |  | 44 |  | ** $836
* We based this figure by averaging both the average DI payments based on SSA's current FY 2021 data (https://www.ssa.gov/legislation/2021FactSheet.pdf), and the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

9. Promoting Opportunity Demonstration—0960-0809. Section 823 of the Bipartisan Budget Act of 2015 required SSA to carry out the Promoting Opportunity Demonstration (POD) to test a new benefit offset formula for SSDI beneficiaries. Therefore, SSA is undertaking POD, a demonstration to evaluate the affect the new policy will have on SSDI beneficiaries and their families in several critical areas. We previously obtained OMB approval for this demonstration and are close to completing the project. In this information collection request, we are seeking to renew the approval for both the POD Monthly Earnings and Impairment-related work Expenses (IRWE) Reporting Form, and the POD End of Year reporting (EOYR) Documentation. The POD implementation team collects earnings and IRWE data from POD treatment group subjects whose monthly earnings exceed the POD threshold. The POD implementation team submits the data it collects from treatment group subjects to SSA. SSA uses the data to apply the POD offset to treatment group subjects' SSDI benefits. Respondents have two options for reporting their earnings and IRWE documentation contained in the POD Monthly Form and the POD EOYR Form: Paper (mail or fax) or an online reporting portal. Respondents are encouraged to submit their earnings and IRWE documentation monthly but can submit it the following year in advance of SSA's end of year reconciliation process. While the collection of the earnings and IRWE data from respondents on the POD Monthly Form and the POD EOYR Forms is voluntary, failure to submit data could result in the inaccurate calculation of SSDI benefits.

Note: We have completed the survey portion of this demonstration project and expect to finish collecting the data by the end of the third quarter of fiscal year 2022.

Respondents are SSDI beneficiaries, who provided written consent before agreeing to participate in the study and whom we randomly assigned to one of the two study treatment groups.

Type of Request: Revision of an OMB-approved information collection.

Modality of completion | Number of respondents | Frequency of response | Number of responses | Average burden per response (minutes) | Estimated total annual burden (hours) | Average theoretical hourly cost amount (dollars) * | Total annual opportunity cost (dollars) **
POD Monthly Earnings and Impairment-related work Expenses (IRWE) Reporting Form—Paper Version (faxed in) | 1,000 | 6 | 6,000 | 40 | 4,000 | * $27.07 | ** $108,280
POD Monthly Earnings and Impairment-related work Expenses (IRWE) Reporting Form—Internet Version | 1,000 | 6 | 6,000 | 5 | 500 | * 27.07 | ** 13,535
POD End of Year reporting (EOYR) Documentation | 2,000 | 1 | 2,000 | 8 | 267 | * 27.07 | ** 7,228
Totals | 4,000 |  | 14,000 |  | 4,767 |  | ** 129,043
* We based this figure on the average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

10. Tribal Council Coverage Agreement—0960-0812. Section 218A of the Social Security Act grants voluntary Social Security coverage to Indian tribal council members. The coverage is voluntary for tribal council members; however, if the tribe wishes to obtain Social Security coverage, they must complete the agreement. Each tribe requesting coverage fills out one agreement. SSA employees collect this information via paper forms SSA-177 & SSA-177-OP1, Indian Tribal Council Coverage Agreement. The respondents are Indian tribal councils who wish to receive Social Security coverage for their members.

Type of Request: Revision of an OMB-approved information collection.

Modality of completion | Number of respondents | Frequency of Response | Average burden per response (minutes) | Estimated total annual burden (hours) | Average theoretical hourly cost amount (dollars) * | Total annual opportunity cost (dollars) **
SSA-177 | 6 | 1 | 10 | 1 | * $19.01 | ** $19
SSA-177-OP1 | 6 | 1 | 10 | 1 | * 19.01 | ** 19
Totals | 12 |  |  | 2 |  | ** 38
* We based this figure by averaging both the average DI payments based on SSA's current FY 2021 data (https://www.ssa.gov/legislation/2021FactSheet.pdf), and the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

Dated: February 2, 2022.
Naomi Sipple,
Reports Clearance Officer, Social Security Administration.

[FR Doc. 2022-02474 Filed 2-4-22; 8:45 am]

BILLING CODE 4191-02-P